COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by a nonprofit agency employing persons who are blind or have other severe disabilities, and deletes products and services previously furnished by such agencies.

Comments Must Be Received on or Before: 7/17/2016.

ADDRESSES: Committee for Purchase From People Who Are Blind or Severely Disabled, 1401 S. Clark Street, Suite 715, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

NSN(s)—Product Name(s):

7930-00-NIB-0578—Disinfectant 256 Cleaner, Neutral, Concentrated, High Dilution

7930-00-NIB-0579—Disinfectant PD-128 Cleaner, Intermediate, Broad Spectrum, Concentrated

8125-00-NIB-0031—Spray Bottle, High Dilution 256 Neutral Disinfectant, 32 oz. Bottle

8125-00-NIB-0032—Spray Bottle, PD-128 Disinfectant Cleaner, 32 oz. Bottle

Mandatory for: Department of Veterans Affairs

Mandatory Source(s) of Supply: VisionCorps, Lancaster, PA

Contracting Activity: Department of Veterans Affairs, Strategic Acquisition Center, Fredericksburg, VA

Distribution: C-List

Deletions

The following products and services are proposed for deletion from the Procurement List:

Products

NSN(s)—Product Name(s): 6530-01-505-0214—Bottle, Prescription, 200cc

Mandatory Source(s) of Supply: Alphapointe, Kansas City, MO

Contracting Activity: Department of Veterans Affairs, NAC, Hines, IL

NSN(s)—Product Name(s): 7045-01-599-5293—Privacy Filter, Netbooks, 10.1Widescreen

Mandatory Source(s) of Supply: Wiscraft, Inc., Milwaukee, WI

Contracting Activity: General Services Administration, New York, NY

NSN(s)—Product Name(s): 7045-01-570-8906—Privacy Filter, Notebook, 12.1″

Mandatory Source(s) of Supply: Wiscraft, Inc., Milwaukee, WI

Contracting Activities: Department of Veterans Affairs, NAC, Hines, IL General Services Administration, New York, NY

Services

Service Types: Library Service Family Housing Maintenance

Mandatory for: Travis Air Force Base, Travis Air Force Base, CA Beale Air Force Base, Beale Air Force Base, CA

Mandatory Source(s) of Supply: PRIDE Industries, Roseville, CA

Contracting Activity: Dept of the Air Force, FA7014 AFDW PK, Andrews AFB, MD

Service Type: Baggage Inspection Service

Mandatory for: Travis Air Force Base: Air Passenger Terminal Travis Air Force Base, CA

Mandatory Source(s) of Supply: PRIDE Industries, Roseville, CA

Contracting Activity: Dept of the Air Force, FA7014 AFDW PK, Andrews AFB, MD

Service Type: Furnishings Management Service

Mandatory for: Travis Air Force Base, Travis Air Force Base, CA

Mandatory Source(s) of Supply: Pacific Coast Community Services, Richmond, CA

Contracting Activity: Dept of the Air Force, FA7014 AFDW PK, Andrews AFB, MD

Service Type: Linen Service

Mandatory for: Hickam Air Force Base, Hickam Air Force Base, HI

Mandatory Source(s) of Supply: Network Enterprises, Inc., Honolulu, HI

Contracting Activity: Dept of the Air Force, FA7014 AFDW PK, Andrews AFB, MD

Service Type: Facilities Management Service

Mandatory for: Television Audio Support Activity (TASA) McClellan AFB, CA

Mandatory Source(s) of Supply: PRIDE Industries, Roseville, CA

Contracting Activity: Dept of the Air Force, FA7014 AFDW PK, Andrews AFB, MD

Service Type: Family Housing Maintenance Service

Mandatory for: Travis Air Force Base, Travis AFB, CA

Mandatory Source(s) of Supply: PRIDE Industries, Roseville, CA

Contracting Activity: Dept of the Air Force, FA7014 AFDW PK, Andrews AFB, MD

Service Type: Laundry and Linen Service

Mandatory for: US Air Force 2610 Pink Flamingo Avenue MacDill AFB, FL

Mandatory Source(s) of Supply: Goodwill Industries of South Florida, Inc., Miami, FL

Contracting Activity: Dept of the Air Force, FA4814 6 CONS LGCP, Tampa, FL

Barry S. Lineback,
Director, Business Operations.

[FR Doc. 2016-14396 Filed 6-16-16; 8:45 am]

BILLING CODE 6353-01-P